DEPARTMENT OF TRANSPORTATION

Pipeline and Hazardous Materials Safety Administration

Office of Hazardous Materials Safety; Hazardous Materials: Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 23, 2015.

ADDRESSES: Address comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on August 5, 2015.
Donald Burger,
Chief, General Approvals and Permits.

Application No. | Docket No. | Applicant | Regulation(s) affected | Nature of special permits thereof
New Special Permits
16526-N |  | Helimax Aviation, Inc., McClellan Park, CA | 49 CFR 172.101 Hazardous Materials Table Column (9B), Subpart C of Part 172, 172.301(c), 175.30, Part 173 | To authorize the transportation in commerce in the U.S. only of certain hazardous materials by 14 CFR part 133 Rotorcraft Load External Operations transporting hazardous materials attached to or suspended from an aircraft and 14 CFR part 135 operations transporting hazardous materials on board an aircraft. Such transportation is in support of construction operations when the use of cranes or other lifting devices is impracticable or unavailable or when aircraft is the only means of transportation, without being subject to certain hazard communication requirements, quantity limitations, packaging and loading and storage requirements. (mode 4).
16530-N |  | 3M Company, Saint Paul, MN | 49 CFR 173.301(f) | To authorize the transportation in commerce of certain DOT specification cylinders containing certain toxic gases without pressure relief devices. (modes 1, 2, 3).
16532-N |  | Kinsbursky Brothers Supply Inc., Anaheim, CA | 49 CFR 173.185(f) | To authorize the transportation in commerce of certain lithium ion cells and batteries and lithium metal cells and batteries in alternative packaging. (modes 1, 2).
16535-N |  | National Aeronautics and Space Administration, Washington, DC | 49 CFR 173.301(h)(3), 173.302a | To authorize the transportation in commerce of non-DOT specification cylinders containing compressed nitrogen. (modes 1, 2, 4, 5).
16536-N |  | FIBA Technologies, Inc., Littleton, MA | 49 CFR 172.203(a), 178.37(k)(2)(i), 178.45(j)(1) | To authorize the manufacture, mark, sale and use of cylinders conforming with all regulations applicable to DOT Specifications 3AA, 3AAX and 3T, except as specified herein. (modes 1, 2, 3, 4, 5).
16537-N |  | Occidental Chemical Corporation, Dallas, TX | 49 CFR 174.50, 179.15, 179.100-3 | To authorize the transportation in commerce of clean and empty DOT 105J500W tank cars without pressure relief devices or loading and unloading valves, when being moved between tank car facilities for the purpose of requalification, as exempt from the FRA approval requirements in 49 CFR 174.50. (mode 2).
16540-N |  | GLI Citergaz, Civray, France | 49 CFR 172.102(b)(3) Special Provision B77, 172.102(c)(7), 172.102(c)(8) Special Provision TP38, 178.274(b), 178.277(b)(1) | To authorize the manufacture, mark, sale and use of a non-DOT specification portable tank conforming to the requirements specified in § 172.102(c)(7) portable tank code T50 that have been designed, constructed and stamped in accordance with the latest edition of Section VIII, Division 1 of the ASME Code with a design margin of 3.5:1 for the transportation in commerce of certain Division 2.3, Class 3, Division 6.1 and Class 8 materials. (modes 1, 3).
16542-N |  | Retriev Technologies, Lancaster, OH | 49 CFR 173.185(f) | To authorize the transportation in commerce of certain lithium ion cells and batteries and lithium metal cells and batteries in alternative packaging. (modes 1, 2).

[FR Doc. 2015-20482 Filed 8-21-15; 8:45 am]

BILLING CODE 4909-60-M